DEPARTMENT OF ENERGY

Federal Energy Regulatory Commission

Combined Notice of Filings

Take notice that the Commission has received the following Natural Gas Pipeline Rate and Refund Report filings:

Filings Instituting Proceedings

Docket Numbers: RP17-712-000.

Applicants: Wyoming Interstate Company, L.L.C.

Description: Wyoming Interstate Company, L.L.C. submits tariff filing per 154.403(d)(2): L&U and Fuel Update Filing to be effective 6/1/2017.

Filed Date: 04/28/2017.

Accession Number: 20170428-5497.

Comment Date: 5:00 p.m. Eastern Time on Wednesday, May 10, 2017.

Docket Numbers: RP17-713-000.

Applicants: WBI Energy Transmission, Inc.

Description: WBI Energy Transmission, Inc. submits tariff filing per 154.204: 2017 Non-Conforming SA FT-1389 to be effective 6/1/2017.

Filed Date: 05/01/2017.

Accession Number: 20170501-5111.

Comment Date: 5:00 p.m. Eastern Time on Monday, May 15, 2017.

Docket Numbers: RP17-714-000.

Applicants: WBI Energy Transmission, Inc.

Description: WBI Energy Transmission, Inc. submits tariff filing per 154.204: 2017 Non-Conforming SA FT-1420 to be effective 6/1/2017.

Filed Date: 05/01/2017.

Accession Number: 20170501-5128.

Comment Date: 5:00 p.m. Eastern Time on Monday, May 15, 2017.

Docket Numbers: RP17-715-000.

Applicants: Southeast Supply Header, LLC.

Description: Southeast Supply Header, LLC submits tariff filing per 154.403(d)(2): 2017 SESH TUP/SBA Annual Filing to be effective 6/1/2017.

Filed Date: 05/01/2017.

Accession Number: 20170501-5146.

Comment Date: 5:00 p.m. Eastern Time on Monday, May 15, 2017.

Docket Numbers: RP17-716-000.

Applicants: Gulfstream Natural Gas System, L.L.C.

Description: Gulfstream Natural Gas System, L.L.C. submits tariff filing per 154.403(d)(2): 2017 GNGS TUP/SBA Filing to be effective 6/1/2017.

Filed Date: 05/01/2017.

Accession Number: 20170501-5162.

Comment Date: 5:00 p.m. Eastern Time on Monday, May 15, 2017.

Docket Numbers: RP17-717-000.

Applicants: Maritimes & Northeast Pipeline, L.L.C.

Description: Maritimes & Northeast Pipeline, L.L.C. submits tariff filing per 154.204: MNUS Misc. Cleanup Filing to be effective 6/1/2017.

Filed Date: 05/01/2017.

Accession Number: 20170501-5173.

Comment Date: 5:00 p.m. Eastern Time on Monday, May 15, 2017.

Docket Numbers: RP17-718-000.

Applicants: Northern Natural Gas Company.

Description: Northern Natural Gas Company submits tariff filing per 154.204: 20170501 Gaines County Crossover Negotiated Rate to be effective 6/1/2017.

Filed Date: 05/01/2017.

Accession Number: 20170501-5208.

Comment Date: 5:00 p.m. Eastern Time on Monday, May 15, 2017.

Docket Numbers: RP17-719-000.

Applicants: Northern Natural Gas Company.

Description: Northern Natural Gas Company submits tariff filing per 154.403: 20170501 Winter PRA Fuel Rates to be effective 11/1/2017.

Filed Date: 05/01/2017.

Accession Number: 20170501-5211.

Comment Date: 5:00 p.m. Eastern Time on Monday, May 15, 2017.

Docket Numbers: RP17-720-000.

Applicants: ETC Tiger Pipeline, LLC.

Description: ETC Tiger Pipeline, LLC submits tariff filing per 154.204: Fuel Filing on 5-1-17 to be effective 6/1/2017.

Filed Date: 05/01/2017.

Accession Number: 20170501-5212.

Comment Date: 5:00 p.m. Eastern Time on Monday, May 15, 2017.

Docket Numbers: RP17-721-000.

Applicants: Equitrans, L.P.

Description: Equitrans, L.P. submits tariff filing per 154.204: Negotiated Capacity Release Agreements 5/1/17 to be effective 5/1/2017.

Filed Date: 05/01/2017.

Accession Number: 20170501-5213.

Comment Date: 5:00 p.m. Eastern Time on Monday, May 15, 2017.

Docket Numbers: RP17-722-000.

Applicants: Florida Gas Transmission Company, LLC.

Description: Florida Gas Transmission Company, LLC submits tariff filing per 154.203: Compliance with CP15-144 to be effective 6/1/2017.

Filed Date: 05/01/2017.

Accession Number: 20170501-5221.

Comment Date: 5:00 p.m. Eastern Time on Monday, May 15, 2017.

Docket Numbers: RP17-723-000.

Applicants: Enable Gas Transmission, LLC.

Description: Enable Gas Transmission, LLC submits tariff filing per 154.204: Negotiated Rate Filing—May 2017 Cross Timbers Removals to be effective 5/1/2017.

Filed Date: 05/01/2017.

Accession Number: 20170501-5245.

Comment Date: 5:00 p.m. Eastern Time on Monday, May 15, 2017.

Docket Numbers: RP17-724-000.

Applicants: Venice Gathering System, L.L.C.

Description: Venice Gathering System, L.L.C. submits tariff filing per 154.204: Motion to Place Interim Settlement Rates Into Effect to be effective 6/1/2017.

Filed Date: 05/01/2017.

Accession Number: 20170501-5254.

Comment Date: 5:00 p.m. Eastern Time on Monday, May 15, 2017.

Docket Numbers: RP17-725-000.

Applicants: Fayetteville Express Pipeline LLC.

Description: Fayetteville Express Pipeline LLC submits tariff filing per 154.204: Fuel Filing on 5-1-17 to be effective 6/1/2017.

Filed Date: 05/01/2017.

Accession Number: 20170501-5286.

Comment Date: 5:00 p.m. Eastern Time on Monday, May 15, 2017.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 2, 2017.
Kimberly D. Bose,
Secretary.

[FR Doc. 2017-09306 Filed 5-8-17; 8:45 am]

BILLING CODE 6717-01-P